NATIONAL CREDIT UNION ADMINISTRATION

Sunshine Act Meeting

TIME AND DATE: 9:00 a.m., Thursday, October 27, 2016.

PLACE: Board Room, 7th Floor, Room 7047, 1775 Duke Street (All visitors must use Diagonal Road Entrance), Alexandria, VA 22314-3428.

STATUS: Open.

MATTERS TO BE CONSIDERED:

1. NCUA's Rules and Regulations, Statutory Inflation Adjustment of Civil Money Penalties.

2. NCUA's Rules and Regulations, Loans in Areas Having Special Flood Hazards.

3. NCUA's Rules and Regulations, Name Change for Office of Consumer Protection.

4. NCUA's Rules and Regulations, Chartering and Fields of Membership.

5. NCUA's Rules and Regulations, Chartering and Fields of Membership.

6. Board Briefing, Supplemental Capital.

RECESS: 12:00 p.m.

TIME AND DATE: 2:00 p.m., Thursday, October 27, 2016.

PLACE: Board Room, 7th Floor, Room 7047, 1775 Duke Street (All visitors must use Diagonal Road Entrance), Alexandria, VA 22314-3428.

STATUS: Open.

MATTERS TO BE CONSIDERED:

1. Board Briefing, NCUA's 2017-2018 Budget.

FOR FURTHER INFORMATION CONTACT: Gerard Poliquin, Secretary of the Board, Telephone: 703-518-6304

Gerard Poliquin,
Secretary of the Board.

[FR Doc. 2016-25778 Filed 10-20-16; 4:15 pm]

BILLING CODE 7535-01-P